DEPARTMENT OF THE INTERIOR

National Park Service

[NPS-WASO-NRNHL-14445; PPWOCRADI0, PCU00RP14.R50000]

National Register of Historic Places; Notification of Pending Nominations and Related Actions

Nominations for the following properties being considered for listing or related actions in the National Register were received by the National Park Service before November 2, 2013. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by December 10, 2013. Before including your address, phone number, email address, or other personal identifying information in your comment, you should be aware that your entire comment—including your personal identifying information—may be made publicly available at any time. While you can ask us in your comment to withhold your personal identifying information from public review, we cannot guarantee that we will be able to do so.

Dated: November 8, 2013.
J. Paul Loether,
Chief, National Register of Historic Places/National Historic Landmarks Program.

AMERICAN SAMOA

Rose Island District

Rose Island Concrete Monument, Rose Atoll, Pago Pago, 13000920

IOWA

Black Hawk County

Waterloo Masonic Temple, 325 E. Park Ave., Waterloo, 13000921

Bremer County

Old Fourth Ward Southeast Historic District, Roughly bounded by Cedar R., 2nd & 3rd Aves., SE., 4th St., SE., Waverly, 13000922

Waverly Municipal Hydroelectric Powerhouse, 121 1st St., NE., Waverly, 13000923

Guthrie County

Sexton Hotel, 203 E. Front St., Stuart, 13000924

Linn County

Bethel African Methodist Episcopal Church, 512 6th St., SE., Cedar Rapids, 13000927

MAINE

Cumberland County

Clifford, Nathan, School, 180 Falmouth St., Portland, 13000925

Knox County

Grant, Gooden, House, 1 Head Harbor, Isle Au Haut, 13000926

MASSACHUSETTS

Suffolk County

Davidson, Sarah, Apartment Block, 3 Gaylord St., Boston, 13000928

Pilgrim Congregational Church, 540-544 Columbia Rd., Boston, 13000929

Walton and Roslin Halls, 702-708 & 710-726 Washington St., 3-5 Walton St., Boston, 13000930

MINNESOTA

Carver County

Harms, J. Carsten and Magaretha, House, (Chaska Brick Resources in the Vicinity of Carver County, 1857-1961 MPS), 1110 Cty. Rd. 152 (Benton Township), Cologne, 13000931

NEW JERSEY

Burlington County

West Hill, 1114 Oxmead Rd., Burlington, 13000944

Cape May County

Naval Air Station Wildwood Historic District, Roughly bounded by Forrestal & Monterre Rds., runways & taxiways to N. & E., Wildwood, 13000945

Somerset County

Dunster—Squibb House, 189 Mine Brook Rd., Bernardsville, 13000946

NEW YORK

Orange County

Adams-Chadeayne-Taft Estate, 1-2 Riverbank Ln., Cornwall-on-Hudson, 13000932

NORTH CAROLINA

Alamance County

Old South Mebane Historic District (Boundary Increase), 400 blks. of W. Lee & W. McKinley Sts., 507 S. 4th St., 600-800 blks. of S. 5th St., Mebane, 13000933

Lincoln County

Eureka Manufacturing Company Cotton Mill, 414 E. Water St., Lincolnton, 13000934

New Hanover County

Sprunt, James D. and Frances, House, 207 N. Lumina Ave., Wrightsville Beach, 13000935

OHIO

Franklin County

Julian and Kokenge Company, 280 S. Front St., Columbus, 13000936

Hamilton County

Kinsey, The, (Apartment Buildings in Ohio Urban Centers, 1870-1970 MPS), 2415 Maplewood Ave., Cincinnati, 13000937

OKLAHOMA

Garfield County

Cherokee Terrace Apartments, 619 E. Maine St., Enid, 13000939

Kay County

Larkin Hotel, 201 N. Main, Blackwell, 13000940

Marshall County

Bounds, James H., Barn, Williams Rd. & OK 70, Kingston, 13000941

Muskogee County

Muskogee Municipal Building, 229-231 W. Okmulgee Ave., Muskogee, 13000942

St. Philip's Episcopal Church, 502 N. 9th St., Muskogee, 13000943

TENNESSEE

Fentress County

Beaty, James, General Merchandise Store, 5004 Alvin York Hwy., Grimsely, 13000947

Hamblen County

Crockett Tavern Museum, 2002 Morningside Dr., Morristown, 13000948

Knox County

Westmoreland Water Wheel and Gatepost, Jct. of Sherwood Dr. & Westland Ave., Knoxville, 13000949

Loudon County

Greenback Depot, 6736 Morganton Rd., Greenback, 13000950

McMinn County

Helm, M.A., House, 149 Ralph Layman Rd., Riceville, 13000951

Morgan County

Wartburg Presbyterian Church, 205 S. Kingston St., Wartburg, 13000952

Sevier County

Rocky Springs Presbyterian Church, 2656 Boyds Creek Hwy., Sevierville, 13000953

Shelby County

Sears, Roebuck and Company Catalog Distribution Center and Retail Store, 495 N. Watkins St., Memphis, 13000954

WEST VIRGINIA

Boone County

Whitesville School, 37949 Coal River Rd., Whitesville, 13000955

WISCONSIN

Milwaukee County

Milwaukee Paper Box Company, 1560 W. Pierce St., Milwaukee, 13000956

A request for removal has been made for the following resources:

MAINE

Aroostook County

Corriveau Mill, U.S. 1, S side, 0.3 mi. SW. of jct. with Paridis Rd., Upper Frenchville, 94001246

Elmbrook Farm Barn, Parson's Rd., Presque Isle, 86000072

Smith Bridge, Lowery Rd. at jct. with Foxcroft Rd., across the Meduxnekeag R., Houlton, 93000202

Violette House, 464 Main St., Van Buren, 76000088

Hancock County

Waldo-Hancock Bridge, US 1, Verona, 85001267

NEW YORK

Broome County

New York State Inebriate Asylum, 425 Robinson St., Binghamton, 96000814

TENNESSEE

Montgomery County

Ringgold Mill Complex, NW. of Clarksville on Mill Rd., Clarksville, 80003851

[FR Doc. 2013-28172 Filed 11-22-13; 8:45 am]

BILLING CODE 4310-70-P